DEPARTMENT OF COMMERCE

Foreign-Trade Zones Board

[Docket 36-2009]

Foreign-Trade Zone 170—Clark County, IN; Application for Subzone; Schwarz Pharma Manufacturing Ltd. (Pharmaceuticals Manufacturing), Seymour, IN

An application has been submitted to the Foreign-Trade Zones Board (the Board) by the Ports of Indiana, grantee of FTZ 170, requesting special-purpose subzone status for pharmaceutical manufacturing facility of Schwarz Pharma Manufacturing Ltd. (Shwarz Pharma), located in Seymour, Indiana. The application was submitted pursuant to the provisions of the Foreign-Trade Zones Act, as amended (19 U.S.C. 81a-81u), and the regulations of the Board (15 CFR part 400). It was formally filed on August 25, 2009.

The Schwarz Pharma facility (450 employees, 28.8 acres, 1. 8 billion doses) is located at 1101 C Avenue West, Seymour, Indiana. The facility is used to manufacture, test, package and warehouse pharmaceutical products. Components and materials sourced from abroad (representing 75% of the value of the finished product) include: alprostidil, edex applicators, lacosamide, moexipril, kremozin, vanlafaxim, and esomeprazole magnesium (duty rate ranges from duty free to 5.3%). The application also requests authority to include a broad range of inputs and finished pharmaceutical products that Schwarz Pharma may produce under FTZ procedures in the future. New major activity involving these inputs/products would require review by the FTZ Board.

FTZ procedures could exempt Schwarz Pharma from customs duty payments on the foreign components used in export production. The company anticipates that less than 5 percent of the plant's shipments will be exported. On its domestic sales, Schwarz Pharma would be able to choose the duty rates during customs entry procedures that apply to Edex kits, Vimpat, Moexipril, Kremozin, Vanlafaxim and an acid reflux pharmaceutical (all duty free) for the foreign inputs noted above. FTZ designation would further allow Schwarz Pharma to realize logistical benefits through the use of weekly customs entry procedures. Customs duties also could possibly be deferred or reduced on foreign status production equipment. The request indicates that the savings from FTZ procedures would help improve the plant's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is November 2, 2009. Rebuttal comments in response to material submitted during the foregoing period may be submitted during the subsequent 15-day period to November 17, 2009.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at diane_finver@ita.doc.gov or (202) 482-1367.

Dated: August 26, 2009.
Andrew McGilvray,
Executive Secretary.

[FR Doc. E9-21319 Filed 9-2-09; 8:45 am]

BILLING CODE 3510-DS-P